DEPARTMENT OF TRANSPORTATION

Federal Aviation Administration

Advisory Circular (AC) 187-1A, Flight Standards Service Schedule of Charges Outside the United States

AGENCY: Federal Aviation Administration (FAA), DOT.

ACTION: Notice of availability.

SUMMARY: This notice announces the availability of AC 187-1A.

SUPPLEMENTARY INFORMATION:

Background

AC 187-1A transmits an updated schedule of charges for services of FAA Flight Standards aviation safety inspectors outside the United States. The AC has been updated in accordance with the procedures listed in 14 CFR Part 187, Appendix A.

FOR FURTHER INFORMATION CONTACT: Emily A. White, Federal Aviation Administration, Flight Standards Service, AFS-50, 800 Independence Avenue, SW., Washington, DC 20591, by e-mail at emily.white@faa.gov, or telephone at (202) 385-8073. Printed copies can be obtained from U.S. Department of Transportation, Subsequent Distribution Office, Ardmore East Business Center, 3341 Q 75th Avenue, Landover, MD 20785. The AC will also be available on the FAA's Regulatory and Guidance Library Web site at http://www.airweb.faa.gov/rgl.

Issued in Washington, DC, on October 4, 2004.
John M. Allen,
Deputy Director, Flight Standards Services.

[FR Doc. 04-23076 Filed 10-13-04; 8:45 am]

BILLING CODE 4910-13-M